DEPARTMENT OF THE INTERIOR

National Park Service

[NPS-WASO-ONAA-37867; PPWODIRET0; PPMRSCR1Y.CT0000]

Notice of Availability and Request for Comments on Draft Director's Order #71C Concerning Consultation With Indian and Alaska Native Tribes

AGENCY: National Park Service, Interior.

ACTION: Notice of availability; request for comments.

SUMMARY: The National Park Service (NPS) has prepared Director's Order #71C to set forth its policies and procedures regarding consultation with Indian and Alaska Native Tribes. Once adopted, the policies and procedures in Director's Order #71C and its accompanying Reference Manual will supersede and replace any conflicting policies and procedures.

DATES: Written comments will be accepted until August 26, 2024.

ADDRESSES: Draft Director's Order #71C, together with a Comment Form, is available online at https://www.nps.gov/subjects/policy/new.htm. You may submit written comments with the Comment Form.

FOR FURTHER INFORMATION CONTACT: Dorothy FireCloud, Native American Affairs Liaison, Office of Native American Affairs, National Park Service, at dorothy_firecloud@nps.gov, or by telephone at 202-354-2126.

SUPPLEMENTARY INFORMATION: The NPS is updating its current system of internal written instructions. When these documents contain new policy or procedural requirements that may affect parties outside the NPS, they are first made available for public review and comment before being adopted. Director's Order #71C and a reference manual (subsequent to the Director's Order) will be issued. The draft Director's Order provides direction to NPS managers and employees with Tribal consultation responsibilities. Both the Presidential Memorandum of April 29, 1994 and Executive Order 13175 (Consultation and Coordination with Indian Tribal Governments) direct executive departments and agencies to engage in regular and meaningful consultation in good faith with Tribal officials on Federal policies and actions with Tribal implications. The draft Director's Order applies only to consultation with Indian and Alaska Native Tribes. Separate Director's Orders on consultation with the Native Hawaiian Community and Alaska Native entities will be issued subsequently.

Public Disclosure of Comments: Before including your address, telephone number, email address, or other personal identifying information in your comment, you should be aware that your entire comment—including your personal identifying information—may be made publicly available at any time. While you may ask us in your comment to withhold your personal identifying information from public review, we cannot guarantee that we will be able to do so.

Authority: 54 U.S.C. 100101(a) et seq.

Alma Ripps,
Chief, Office of Policy.

[FR Doc. 2024-16368 Filed 7-24-24; 8:45 am]

BILLING CODE 4312-52-P